DEPARTMENT OF COMMERCE

International Trade Administration

[A-428-820]

Certain Small Diameter Seamless Carbon and Alloy Standard, Line and Pressure Pipe From Germany: Final Results of Expedited Fifth Sunset Review of the Antidumping Duty Order

AGENCY: Enforcement and Compliance, International Trade Administration, Department of Commerce.

SUMMARY: As a result of this sunset review, the U.S. Department of Commerce (Commerce) finds that revocation of the antidumping duty (AD) order on certain small diameter seamless carbon and alloy standard, line, and pressure pipe (seamless pipe) from Germany would likely to lead to continuation or recurrence of dumping at the levels indicated in the “Final Results of Review” section of this notice.

DATES: Applicable May 9, 2023.

FOR FURTHER INFORMATION CONTACT: Tyler R. Weinhold, AD/CVD Operations, Office VI, Enforcement and Compliance, International Trade Administration, U.S. Department of Commerce, 1401 Constitution Avenue NW, Washington, DC 20230; telephone: (202) 482-1121.

SUPPLEMENTARY INFORMATION:

Background

On August 3, 1995, Commerce published the AD order on seamless pipe from Germany.¹ On January 3, 2023, Commerce published the notice of initiation of the sunset review of the Order, pursuant to section 751(c) of the Tariff Act of 1930, as amended (the Act).² On January 18, 2023, Commerce received a notice of intent to participate from Vallourec Star, L.P. (Vallourec), a U.S. producer of seamless pipe, within the 15-day deadline specified in section 771(9)(C) of the Act and 19 CFR 351.218(d)(1)(i).³ Vallourec claimed interested party status under section 771(9)(C) of the Act as a domestic producer engaged in the production of seamless pipe in the United States, a domestic like product.⁴

¹ See Notice of Antidumping Duty Order and Amended Final Determination: Certain Small Diameter Seamless Carbon and Alloy Steel Standard, Line and Pressure Pipe from Germany, 60 FR 39704 (August 3, 1995) (Order).

² See Initiation of Five-Year (Sunset) Reviews, 88 FR 63 (January 3, 2023) (Initiation Notice).

³ See Vallourec's Letter, “Notice of Intent to Participate in the Fifth Five-Year Review of the Antidumping Duty Order on Seamless Line and Pressure Pipe from Germany,” dated January 18, 2023.

⁴ Id. at 2.

On February 2, 2023, Vallourec submitted a timely and adequate substantive response to the Initiation Notice within the 30-day deadline specified in 19 CFR 351.218(d)(3)(i). We received no substantive responses from other interested parties, nor was a hearing requested.

On February 24, 2023, Commerce notified the U.S. International Trade Commission (ITC) that it did not receive an adequate substantive response from respondent interested parties.⁵ As a result, pursuant to section 751(c)(3)(B) of the Act and 19 CFR 351.218(e)(1)(ii)(C)(2), Commerce has conducted an expedited (120-day) sunset review of this Order.

⁵ See Commerce's Letter, “Sunset Review for January 2023,” dated February 24, 2023.

Scope of the Order

The product covered by the Order is seamless pipe. For a complete description of the scope of the Order, see the Issues and Decision Memorandum.⁶

⁶ See Memorandum, “Issues and Decision Memorandum for the Expedited Fifth Sunset Review of the Antidumping Duty Order on Certain Small Diameter Seamless Carbon and Alloy Standard, Line and Pressure Pipe from Germany,” dated concurrently with, and hereby adopted by, this notice (Issues and Decision Memorandum).

Analysis of Comments Received

All issues raised in this sunset review are addressed in the Issues and Decision Memorandum. A list of topics discussed in the Issues and Decision Memorandum is included as an appendix to this notice. The Issues and Decision Memorandum is a public document and is on file electronically via Enforcement and Compliance's Antidumping and Countervailing Duty Centralized Electronic Services System (ACCESS). ACCESS is available to registered users at http://access.trade.gov. In addition, a complete version of the Issues and Decision Memorandum can be accessed directly at https://access.trade.gov/public/FRNoticesListLayout.aspx.

Final Results of Sunset Review

Pursuant to sections 751(c)(1) and 752(c)(1) and (3) of the Act, Commerce determines that revocation of the Order would be likely to lead to continuation or recurrence of dumping, and that the magnitude of the margin of dumping likely to prevail would be up to 57.72 percent.

Administrative Protective Order

This notice serves as the only reminder to parties subject to administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing and publishing this notice in accordance with sections 751(c), 752(c), and 777(i)(1) of the Act, 19 CFR 351.218(e)(1)(ii)(C)(2) and 19 CFR 351.221(c)(5)(ii).

Dated: May 2, 2023.
Abdelali Elouaradia,
Deputy Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely To Prevail

VII. Final Results of Review

VIII. Recommendation

[FR Doc. 2023-09798 Filed 5-8-23; 8:45 am]

BILLING CODE 3510-DS-P